DEPARTMENT OF COMMERCE

International Trade Administration

For Inspiration and Recognition of Science and Technology (FIRST), et. al., Application(s) for Duty-Free Entry of Scientific Instruments

Pursuant to section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 6, 2022. Address written comments to Statutory Import Programs Staff, Room 3720, U.S. Department of Commerce, Washington, DC 20230. Please also email a copy of those comments to Dianne.Hanshaw@trade.gov.

Docket Number: 22-001. Applicant: For Inspiration and Recognition of Science and Technology (FIRST), 200 Bedford Street, Manchester, NH 03101. Instrument: Dual Band 1.17 Gbps Access Point. Manufacturer: Open Mesh Inc., China. Intended Use: According to the applicant, the FIRST Robotics Competition (FRC) (EIN 22-2990908) requires wireless radio communication between student teams' driver controls and their home-built robots. It is crucial that FRC be able to manage the wireless traffic (for safety and team experience reasons). FRC mandates a specific radio (Datto's OM5P-AN, obsolete, or OM5P-AC models, both are dual band 1.17 Gbps access points) with custom firmware which optimizes the radio for the competition use case. This transaction is to secure the radios needed for educational robotic kits for the 2020 season (4,400 air-freighted to meet 2020 season deadlines) and the 2021 season (4,336 shipped via ocean). The applicant certifies that there will not be any use of the foreign instrument by or for the primary benefit of any commercial (for-profit) entity with 5 years after entry of the foreign instrument into the United States customs territory. Justification for Duty-Free Entry: According to the applicant, there are no instruments of the same general category manufactured in the United States. Application accepted by Commissioner of Customs: November 25, 2020.

Docket Number: 22-002. Applicant: University of California, Riverside, 900 University Avenue, Riverside, CA 92521. Instrument: Customs Pulsed Laser Deposit & Molecular-Beam Epitaxy (PLD/MBE) deposition system. Manufacturer: BEIJING PERFECT TECHNOLOGY CO., LTD., Beijing, China. Intended Use: According to the applicant, the instrument is intended to be used for research purposes for experimental condenses matter physics, spin transport, quantum transport, and spin-dependent physics, graphene, 2D layers, heterostructures, and nanoscale devices, magnetic insulators, heterostructures and interfaces, energy related materials science research. Justification for Duty-Free Entry: According to the applicant, there are no instruments of the same general category manufactured in the United States. Application accepted by Commissioner of Customs: December 17, 2021.

Docket Number: 22-003. Applicant: University of Chicago Argonne LLC, Operator of Argonne National Laboratory, 9700 South Cass Avenue, Lemont, IL (U.S.A.), 60439-4873. Instrument: High Heat Load Exit Mask Assemblies. Manufacturer: Strumenti Scientific CINEL S.R.L., Italy. Intended Use: According to the applicant, these components will be used to assemble the new high heat load front ends for the Advanced Photon Source upgrade. The front end consists of a series of components that connect the storage ring to the user beamline to deliver a photon beam that will be used as a three-dimensional X-ray microscope for experimental purposes. The materials/phenomena that are studied vary widely from material properties analysis, protein mapping for pharmaceutical companies, X-ray imaging and chemical composition determination. These components will be used exclusively for scientific research for a minimum of 5 years at Argonne National Laboratory. The properties of the materials studied include but are not limited to grain structure, grain boundary and interstitial defects, and morphology. These properties are not only studied at ambient environments but also under high pressure, temperature, stress and strain. Justification for Duty-Free Entry: According to the applicant, there are no instruments of the same general category manufactured in the United States. Application accepted by Commissioner of Customs: April 6, 2022.

Docket Number: 22-004. Applicant: UChicago Argonne LLC, Operatory of Argonne National Laboratory, 9700 South Cass Avenue, Lemont, IL (U.S.A.) 60439-4873. Instrument: High Energy Monochromators. Manufacturer: Strumenti Scientific CINEL S.R.L., Italy. Intended Use: According to the applicant, these instruments will be used on new beamlines for the Advanced Photon Source upgrade. The monochromators are bandpass optical filters, that allow only a narrow band of wavelengths of X-rays to pass. This is critical for the needs of the beamline's experimental purposes. The materials/phenomena that are studied vary widely from material properties analysis, protein mapping for pharmaceutical companies, X-ray imaging and chemical composition determination. These components will be used exclusively for scientific research for a minimum of 5 years at Argonne National Laboratory. The properties of the materials studied include but are not limited to grain structure, grain boundary and interstitial defects, and morphology. These properties are not only studied at ambient environments but also under high pressure, temperature, stress and strain. Justification for Duty-Free Entry: According to the applicant, there are no instruments of the same general category manufactured in the United States. Application accepted by Commissioner of Customs: April 6, 2022.

Docket Number: 22-005. Applicant: Cornell University, School of Civil and Environmental Engineering, Hollister Hall (2046), Room #220, 527 College Avenue, Ithaca, NY 14853-3501, USA. Instrument: Semi-automatic single cell sorter. Manufacturer: Hooke Instruments, Ltd., P.R. China. Intended Use: According to the applicant, the research will involve identifying and obtaining novel single cells based on metabolic traits that can not be identified with simple label/staining, and in addition, we would like to obtain live cells for further culturing and investigation. We are interested in novel and non-culturable organisms/cells that possess combined traits of desire that can be detected using Raman micro-spectroscopy fingerprinting. This unique label-free and ejection-based cell sorter is the only one known that will enable the applicant to eject the single live cell (pre-identified with non-invasive, non-damaging Raman) in complicated bioprocess/environmental (soil water) samples into collectors and then allow us to study them. Justification for Duty-Free Entry: According to the applicant, there are no instruments of the same general category manufactured in the United States. Application accepted by Commissioner of Customs: August 30, 2021.

Dated: August 11, 2022.
Richard Herring,
Director, Subsidies Enforcement, Enforcement and Compliance.

[FR Doc. 2022-17583 Filed 8-15-22; 8:45 am]

BILLING CODE 3510-DS-P